FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Air Eagle Logistics Inc., 15506 Roper Avenue, Norwalk, CA 90650. Officer: Yin Yan Wu, President, (Qualifying Individual).

World Cargo Service, Inc., 6905 NW 73 Court, Miami, FL 33166. Officers: Luis A. Marquez, Logistics Manager, (Qualifying Individual), Gregorio Zambrano, President.

Quality International Shipping, Inc., 1043 East 223rd Street, Bronx, NY 10466. Officer: Alphanso I. Jackson, President, (Qualifying Individual).

Global Business Link Inc., 2009 Cedar Barn Way, Windsor Mill, MD 21244. Officers: Wael Y. Ghanem, Vice President, (Qualifying Individual), Abudullah W. Alsawi, President.

Yaseen Trading and Investment Inc., dba Yaseen Shipping, 2547 South Main Street, Santa Ana, CA 92707. Officers: Tareq K. Elbarq, President, (Qualifying Individual), Haya K. Elrarq, Treasurer.

SBB International Shipping LLC, 100 Plaza Drive, Ste. 100, Secaucus, NJ 07094. Officers: Susan Marme, Secretary, (Qualifying Individual), Daniel L. Vesque, Vice President.

Ultra Air Cargo Inc., 20900 Normandie Avenue, Ste. B, Torrance, CA 90502. Officer: David Li Hsu, President, (Qualifying Individual).

AO Container Lines Inc., 419 N. Oak Street, Inglewood, CA 90302. Officers: Spencer Ho, Vice President, (Qualifying Individual), Alex Chan, President.

Non-Vessel Operating Common Carrier and Ocean Freight Forwarder Transportation Intermediary Applicants

Deployed Logistics, Inc., 1547 Avenida Salvador, San Clemente, CA 92672. Officers: Kevin D. McCarlton, CEO, (Qualifying Individual), Richard Stapleton, Director.

Global International Traders, Inc. dba GIT, 7255 N.W. 88th Street, Miami, FL 33166. Officers: Ricardo Ortiz, President, (Qualifying Individual), Terrie DeRouen, Vice President.

C.T. Freight USA Inc., c/o Aeronet Worldwide, 21023 Main St., Bldg. E2, Carson, CA 90745. Officers: Leslie Osborn, General Manager, (Qualifying Individual).

MBC Latinamerican Group, Corp., 2801 N.W. 74th Avenue, Miami, FL 33122. Officers: Martha S. Baptista, President, (Qualifying Individual).

Avion Shipping Corp. dba Shipping, 154-09 146th Avenue, Jamaica, NY 11434. Officers: Ana M. Lanfranco, Secretary, (Qualifying Individual), Massimo Giordano, President.

Ocean One Shipping Inc., 16972 Wabash Avenue, Yorba Linda, CA 92886. Officer: Joe Castano, President, (Qualifying Individual).

B A Hill Corporation, 40 Atlantic Avenue, Cohasset, MA 02025. Officer: Brian A. Hill, President, (Qualifying Individual).

Continental Shipping Inc., 11950 New Kings Road, Jacksonville, FL 32219. Officers: Anne Cheri Hogan, Exec. V. President, (Qualifying Individual), Suzanne Kostenski, President.

Panobulk Logistics, Inc., 1971 W. 190th Street, Torrance, CA 90504. Officers: Eun Y. Chun, General Manager, (Qualifying Individual), Alex B. Lee, Manager.

Japan Express America Inc., 370 Shaw Road, So. San Francisco, CA 94080. Officers: Masahiro Naka, Secretary, (Qualifying Individual), Ryo Hijikata, Chairman.

BA Capital Venture Firm, Inc. dba Cres Global dba Phantom Logistics, Transportation and Distribution, 8660 N.W. 6 Lane, Miami, FL 33126. Officers: Alba Diaz, Secretary, (Qualifying Individual), Brandy Abre, President.

Royal Pacific Shipping, Inc., 58 Leslie Street, Newark, NJ 07108. Officers: Atta Boamah, President, (Qualifying Individual), Alice Boamah, Secretary.

Freights USA Inc., 12903 Old Richmond Rd., Ste. A, Houston, TX 77099. Officers: Hanaa M. Hussein, President, (Qualifying Individual).

NYK Logistics (Americas) Inc. dba Double Wing Express, 8295 Tournament Drive, Ste. 150, Memphis, TN 38125. Officers:Karen Quintana, Vice President, (Qualifying Individual), Tetsuichi Nozaki, Director.

Translink Global Shipping, Inc., 15020 Bothell Way NE., Ste. 100, Seattle, WA 98155. Officer: Sam H. Chen, President, (Qualifying Individual).

Ocean Freight Forwarder—Ocean Transportation Intermediary Applicants

MMI Logistics & Forwarding, 1006 Sable Drive, Friendswood, TX 77546, Karen Crain, Sole Proprietor.

Autocorolla, 3333 N.W. 27 Avenue, Miami, FL 33142. Officer: Ramon A. Ceballos Green, Director, (Qualifying Individual).

Milan Freight Express Corp., 8901 NW 34 Avenue Road, Miami, FL 33147. Officers: Vladimir A. Rojas, Vice President, (Qualifying Individual), Braulio Milan, President.

Platinum Cargo Logistics Inc., 871 E. Artesia Blvd., Carson, CA 90746. Officers: Kelli Spiri, President, (Qualifying Individual), William Mancini, Vice Pres. Operations.

MDM Forwarding L.L.C., 482 S. Elm Street, Maywood, NJ 07607. Officer: Marianela Capellan, Managing Member, (Qualifying Individual).

Middle-East Air Cargo Inc., 83 Gordon Street, Elk Grove Village, IL 60007. Officer: Sadeddin Lambaz, President, (Qualifying Individual).

International Trade Compliance Group, LLC, 101 North Riverside Dr., Suite 203, Pompano Beach, FL 33062. Officers: Raul A. Villavicencencio, Vice President, (Qualifying Individual), Michael A. Capuzzi, Managing Member.

Dated: January 24, 2008.
Karen V. Gregory,
Assistant Secretary.

[FR Doc. E8-1576 Filed 1-29-08; 8:45 am]

BILLING CODE 6730-01-P